DEPARTMENT OF TRANSPORTATION

Federal Aviation Administration

Office of Commercial Space Transportation; Notice of Intent to Prepare an Environmental Impact Statement (EIS), Open a Public Scoping Period, and Conduct a Public Scoping Meeting.

AGENCY: The Federal Aviation Administration (FAA) is the lead Federal agency. The U.S. Army Corps of Engineers, National Aeronautics and Space Administration, U.S. Fish and Wildlife Service, and National Park Service are cooperating agencies.

ACTION: Notice of Intent to Prepare an EIS, Open a Public Scoping Period, and Conduct a Public Scoping Meeting

SUMMARY: This Notice provides information to Federal, State, and local agencies, Native American tribes, and other interested persons regarding the FAA's intent to prepare an EIS that will evaluate the potential environmental impacts associated with the issuance of a Launch Site Operator License to Space Florida. Space Florida, an independent special district and a subdivision of the State of Florida, proposes to construct and operate a commercial space launch site (the “Shiloh Launch Complex”) and two off-site operations support areas. The Shiloh Launch Complex would include two vertical launch facilities that would accommodate up to 24 launches per year (12 launches per vertical launch facility), as well as up to 24 static fire engine tests or wet dress rehearsals per year (12 static fire engine tests or wet dress rehearsals per vertical launch facility). The launch vehicles would include liquid fueled, medium- to heavy-lift class orbital and suborbital vehicles. In addition to the 24 launches per year, the first stage of the launch vehicle could return to and land at the Shiloh Launch Complex. The proposed commercial space launch site is located on the west side of Kennedy Parkway North (State Road [SR] 3), which straddles Brevard and Volusia counties, Florida. Space Florida would be required to apply for a Launch Site Operator License to be issued by the FAA. The FAA will prepare the EIS in accordance with the National Environmental Policy Act of 1969 (NEPA; 42 United States Code [U.S.C.] 4321 et seq.), the Council on Environmental Quality Regulations for Implementing the Procedural Provisions of NEPA (40 Code of Federal Regulations [CFR] parts 1500-1508), and FAA Order 1050.1E, Change 1, Environmental Impacts: Policies and Procedures, as part of its licensing process. Concurrent with the NEPA process, the FAA is initiating National Historic Preservation Act Section 106 Consultation to determine the potential effects of the Proposed Action on historic properties. The FAA will also consult with the U.S. Fish and Wildlife Service (USFWS) under Section 7 of the Endangered Species Act regarding potential impacts to federally-listed threatened and endangered species. Pursuant to the U.S. Department of Transportation Act of 1966, this EIS will comply with the requirements of Section 4(f).

DATES: The FAA invites interested agencies, organizations, Native American tribes, and members of the public to submit comments or suggestions to assist in identifying significant environmental issues and in determining the appropriate scope of the EIS. The public scoping period starts with the publication of this notice in the Federal Register. To ensure sufficient time to consider issues identified during the public scoping period, comments should be submitted to Ms. Stacey M. Zee, FAA Environmental Specialist, by one of the methods listed below no later than February 21, 2014. All comments will receive the same attention and consideration in the preparation of the EIS.

ADDRESSES: Comments, statements, or questions concerning scoping issues or the EIS process should be mailed to: Ms. Stacey M. Zee, FAA Environmental Specialist, Shiloh EIS c/o Cardno TEC Inc., 2496 Old Ivy Road, Suite 300, Charlottesville, VA 22903.

Comments can also be sent by email to faashiloheis@cardnotec.com or by fax to (434) 295-5535.

SUPPLEMENTARY INFORMATION:

Background

The FAA is preparing an EIS to analyze the potential environmental impacts of the issuance of a Launch Site Operator License to Space Florida. Space Florida proposes to construct and operate a commercial space launch site, called the “Shiloh Launch Complex,” that would allow Space Florida to offer the commercial space launch site to commercial launch providers to conduct launch operations of liquid fueled, medium- to heavy-lift class orbital and suborbital vertical launch vehicles. The EIS will consider the potential environmental impacts of the Proposed Action and reasonable alternatives, including the No Action Alternative. The successful completion of the environmental review process does not guarantee that the FAA would issue a Launch Site Operator License to Space Florida. The project must also meet all FAA safety, risk, and indemnification requirements.

Proposed Action

The Proposed Action is for the FAA to issue a Launch Site Operator License to Space Florida that would allow Space Florida to offer the commercial space launch site (the “Shiloh Launch Complex”) to commercial launch providers to conduct launch operations of liquid fueled, medium- to heavy-lift class orbital and suborbital vertical launch vehicles. Under the Proposed Action, Space Florida would construct and operate two vertical launch facilities and two off-site operations support areas. The Shiloh Launch Complex would accommodate up to 24 launches per year (12 launches per vertical launch facility), as well as up to 24 static fire engine tests or wet dress rehearsals per year (12 static fire engine tests or wet dress rehearsals per vertical launch facility).

The proposed Shiloh Launch Complex is located on the west side of Kennedy Parkway North (SR 3), which straddles Brevard and Volusia counties in Florida. The proposed site is part of the National Aeronautics and Space Administration's (NASA) Kennedy Space Center (KSC) in an area of the Merritt Island National Wildlife Refuge that is managed by the USFWS. The proposed Shiloh Launch Complex would be constructed on approximately 200 acres of undeveloped land in the vicinity of a former citrus community known as Shiloh. Of the 200 acres, each vertical launch facility would require approximately 30 acres of fenced land. Each vertical launch facility would include a launch pad and stand with its associated flame duct, propellant storage and handling areas, vehicle and payload integration facility, storage tanks, lightning protection systems, deluge water systems, and other launch-related facilities and systems.

In addition, as part of the Proposed Action, commercial launch operators using the Shiloh Launch Complex would construct and operate two off-site operations support areas in separate locations from the Shiloh Launch Complex. Each off-site operations support area would include a launch vehicle pre-integration processing facility, a payload processing facility, and a control center building. There are two proposed off-site operations support areas that are close to the Shiloh Launch Complex: the Oak Hill site and the South Volusia County site, both in Volusia County. The Oak Hill site is approximately 22 acres and the South Volusia County site is approximately 51 acres. The development of access and supporting utility infrastructure for the vertical launch facility and the off-site operations support areas may occur on lands outside the Shiloh Launch Complex.

Operations would consist of up to 24 launches per year (12 launches occurring per vertical launch facility. In addition to launches, other operations could occur including up to 24 static fire engine tests or wet dress rehearsals per year (12 static fire engine tests or wet dress rehearsals per vertical launch facility). All vehicles would launch to the east over the Atlantic Ocean. Under the Proposed Action, the first stage of the launch vehicle could return to and land at the Shiloh Launch Complex or it would land in the Atlantic Ocean.

The potential environmental impacts of all proposed construction activities will be analyzed in the EIS, in addition to the impacts from operating the facilities and launching orbital vertical launch vehicles. The EIS will evaluate the potential environmental effects associated with: Air quality; noise and compatible land use; land use, including Section 4(f) properties and farmlands; coastal resources; biological resources, including threatened and endangered species; water resources, including surface waters and wetlands, groundwater, floodplains, and water quality; historical, architectural, archaeological, and cultural resources; light emissions and visual resources; hazardous materials, pollution prevention, and solid waste; infrastructure and utilities; and socioeconomics, environmental justice, and children's environmental health and safety. This includes addressing the potential environmental impacts associated with reasonably foreseeable changes to land administration, jurisdiction, and management with regards to the lands at the proposed Shiloh Launch Complex site currently administered by NASA and USFWS. The analysis will include an evaluation of the potential direct and indirect impacts, and will account for cumulative impacts from other relevant activities in the area of Brevard and Volusia Counties, Florida.

Alternatives

Based on comments received during the scoping period, the FAA may analyze additional alternatives. However, at this time, the alternatives under consideration include the Proposed Action and the No Action Alternative. Under the No Action Alternative, the FAA would not issue a Launch Site Operator License to Space Florida.

Scoping Meetings

Two public scoping meetings will be held to solicit input from the public on potential issues that may need to be evaluated in the EIS. The first scoping meeting will be held on February 11, 2014 from 5:00 p.m. to 8:00 p.m., at the New Smyrna Beach High School Gymnasium, 1015 10th Street, New Smyrna Beach, Florida 32168. The second scoping meeting will be held on February 12, 2014 from 5:00 p.m. to 8:00 p.m., at the Eastern Florida State College, Titusville Campus, John Henry Jones Gymnatorium, 1311 North U.S. 1, Titusville, Florida 32796. The meeting format will include an open-house workshop from 5:00 p.m. to 6:00 p.m. The FAA will provide an overview of the environmental process from 6:00 p.m. to 6:15 p.m. followed by a public comment period from 6:15 p.m. to 8:00 p.m. The open-house workshop will consist of poster stations describing the proposed project and the NEPA process. The FAA and cooperating agency staff will be present during the open-house workshop portion of the meetings to answer general questions on the proposed project and the NEPA process. During each scoping meeting, one designated area of the room will focus on the Section 106 process and solicit public input on the identification of historic properties and potential effects of the Proposed Action on historic properties.

Information on the proposed project and the NEPA process is available on the following Web site: http://www.faa.gov/about/office_org/headquarters_offices/ast/environmental/nepa_docs/review/documents_progress/shiloh_launch_statement/.

Issued in Washington, DC on December 18, 2013.
Daniel Murray,
Manager, Space Transportation Development Division.

[FR Doc. 2013-30823 Filed 12-24-13; 8:45 am]

BILLING CODE 4910-13-P